FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Federal Reserve Bank indicated or the offices of the Board of Governors, Ann E. Misback, Secretary of the Board, 20th and Constitution Avenue NW, Washington, DC 20551-0001, not later than October 24, 2019.

A. Federal Reserve Bank of Chicago (Colette A. Fried, Assistant Vice President) 230 South LaSalle Street, Chicago, Illinois 60690-1414:

1. Cathy E. Sipes, individually, and Jeffrey B. McHenry, both of Fairmount, Indiana, as a group acting in concert; to retain voting shares of Fairmount Banking Company, and thereby indirectly retain shares of The Fairmount Sate Bank, both of Fairmount, Indiana.

Board of Governors of the Federal Reserve System, October 3, 2019.
Yao-Chin Chao,
Assistant Secretary of the Board.

[FR Doc. 2019-21915 Filed 10-7-19; 8:45 am]

BILLING CODE 6210-01-P